DEPARTMENT OF THE INTERIOR

Bureau of Land Management

[LLORW00000.L16100000.DF0000.LXSS1080000.17XL1109AF.HAG17-0030]

Notice of Public Meeting for the San Juan Islands National Monument Advisory Committee

AGENCY: Bureau of Land Management, Interior.

ACTION: Notice of public meeting.

SUMMARY: In accordance with the Federal Land Policy and Management Act and the Federal Advisory Committee Act of 1972, and the U.S. Department of the Interior, Bureau of Land Management (BLM), the San Juan Islands National Monument Advisory Committee (MAC) will meet as indicated below:

DATES: The MAC will hold a public meeting Monday, November 28th, 2016. The meeting will run from 8:30 a.m. to 4:30 p.m. The meeting will be held at San Juan Island Grange Hall in Friday Harbor on San Juan Island. Public comment periods will be available in the afternoon from noon until 12:30 and 3:00 p.m. until 3:30 p.m.

FOR FURTHER INFORMATION CONTACT: Marcia deChadenèdes, San Juan Islands National Monument Manager, P.O. Box 3, 37 Washburn Pl., Suite 101, Lopez Island, Washington 98261, (360) 468-3051, or mdechade@blm.gov. Persons who use a telecommunications device for the deaf (TDD) may call the Federal Information Relay Service (FIRS) at 1 (800) 877-8339 to contact the above individual during normal business hours. The FIRS is available 24 hours a day, 7 days a week, to leave a message or question with the above individual. You will receive a reply during normal business hours.

SUPPLEMENTARY INFORMATION: The twelve member San Juan Islands MAC was chartered to provide information and advice regarding the development of the San Juan Islands National Monuments Resource Management Plan. Members represent an array of stakeholder interests in the land and resources from within the local area and statewide. All advisory committee meetings are open to the public. At noon and at 3:00 p.m. members of the public will have the opportunity to make comments to the MAC during half-hour public comment periods. Persons wishing to make comments during the public comment period should register in person with the Bureau of Land Management (BLM) by 11:00 a.m. or 2:00 p.m. respectively on the meeting day, at the meeting location. Depending on the number of persons wishing to comment, the length of comments may be limited. The public may send written comments to the MAC at San Juan Islands National Monument, Attn. MAC, P.O. Box 3, 37 Washburn Pl., Suite 101, Lopez Island, Washington 98261. The BLM appreciates all comments.

Linda Clark,
Spokane District Manager.

[FR Doc. 2016-27038 Filed 11-8-16; 8:45 am]

BILLING CODE 4310-33-P